DEPARTMENT OF THE INTERIOR

Fish and Wildlife Service

Endangered Species Recovery Permit Applications

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). The U.S. Fish and Wildlife Service (“we”) solicits review and comment from local, State, and Federal agencies, and the public on the following permit requests.

DATES: Comments on these permit applications must be received on or before July 29, 2004.

ADDRESSES: Written data or comments should be submitted to the U.S. Fish and Wildlife Service, Chief, Endangered Species, Ecological Services, 911 NE. 11th Avenue, Portland, Oregon 97232-4181 (fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 30 days of the date of publication of this notice to the address above (telephone: 503-231-2063). Please refer to the respective permit number for each application when requesting copies of documents.

SUPPLEMENTARY INFORMATION:

Permit No.: TE-086593

Applicant: Arizona Cooperative Fish and Wildlife Research Unit, Tucson, Arizona. The applicant requests a permit to take (capture and collect) the Mohave tui chub (Gila bicolor mohavensis) in conjunction with parasite research in San Bernardino County, California, for the purpose of enhancing its survival.

Permit No.: TE-086996

Applicant: David Hacker, Morro Bay, California. The applicant requests a permit to take (harass by survey) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys throughout the range of each species in California for the purpose of enhancing their survival.

Permit No.: TE-082546

Applicant: Elkhorn Sough Reserve, Watsonville, California. The applicant requests a permit to take (capture and release) the Santa Cruz long-toed salamander (Ambystoma macrodactyium) in conjunction with California red-legged frog (Rana aurora draytonii) research in San Mateo, Santa Cruz, Monterey, San Luis Obispo, and Santa Barbara Counties, California, for the purpose of enhancing its survival.

Permit No.: TE-802094

Applicant: Carl Page, Cotati, California. The permittee requests an amendment to take (harass by survey, capture, handle, and release) the unarmored threespine stickleback (Gasterosteus aculeatus williamsoni) in conjunction with inventories throughout the range of the species in California for the purpose of enhancing its survival.

Permit No.: TE-806679

Applicant: Spring Rivers Ecological Sciences, Cassel, California. The permittee requests an amendment to take (collect tissue) the Shasta crayfish (Pacifastacus fortis) in conjunction with genetic research throughout the species range in California for the purpose of enhancing its survival.

We solicit public review and comment on each of these recovery permit applications.

Dated: May 25, 2004.
Paul Henson,
Manager, California/Nevada Operations Office, Region 1, Fish and Wildlife Service.

[FR Doc. 04-14671 Filed 6-28-04; 8:45 am]

BILLING CODE 4310-55-P